Executive Order 14337 of August 13, 2025

Revocation of Executive Order on Competition

By the authority vested in me as President by the Constitution and the laws of the United States of America, it is hereby ordered:

Section 1. Revocation. Executive Order 14036 of July 9, 2021 (Promoting Competition in the American Economy), is hereby revoked.

Sec. 2. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Justice.

THE WHITE HOUSE,

August 13, 2025.

[FR Doc. 2025-15824

Filed 8-18-25; 8:45 am]

Billing code 4410-CW-P